DEPARTMENT OF COMMERCE

Submission for OMB Review; Comment Request

The Department of Commerce has submitted to the Office of Management and Budget (OMB) for clearance the following proposal for collection of information under the provisions of the Paperwork Reduction Act (44 U.S.C. Chapter 35).

Agency: Technology Administration.

Title: Commercial Space Launch Range User Requirements.

Form Number(s): None.

OMB Approval Number: 0692-0009.

Type of Review: Regular submission.

Burden Hours: 35.

Number of Respondents: 7.

Average Hours Per Response: 10.

Needs and Uses: The information collected would allow the DOC, Office of Space Commercialization (DOC/OSC) and the Federal Aviation Administration (FAA) to follow the terms of a Memorandum of Agreement (MOA) with the U.S. Air Force to ensure consideration of commercial space launch users' needs in the Air Force's range modernization planning. The collection instrument will be a Federal Register announcement.

Affected Public: Business or other for-profit organizations; not-for-profit institutions; State, Local, or Tribal government.

Frequency: Biannually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: March 28, 2003.
Gwellnar Banks,
Management Analyst, Office of the Chief Information Officer.

[FR Doc. 03-7954 Filed 4-1-03; 8:45 am]

BILLING CODE 3510-21-P